DEPARTMENT OF HEALTH AND HUMAN SERVICES

Agency for Healthcare Research and Quality

Notice of Proposed Changes for the Consumer Assessment of Healthcare Providers and Systems (CAHPS) Clinician & Group Survey

AGENCY: Agency for Healthcare Research and Quality (AHRQ), HHS.

ACTION: Notice of request for public comments.

SUMMARY: The Agency for Healthcare Research and Quality (AHRQ) seeks comments on proposed changes to the CAHPS Clinician & Group (CG-CAHPS) Survey, including the Patient-Centered Medical Home (PCMH) Item Set. The CG-CAHPS survey is a product of the CAHPS program, which is funded and administered by AHRQ. AHRQ works closely with a consortium of public and private research organizations to develop and maintain surveys and tools to advance patient-centered care. AHRQ proposes these revisions in order to enhance the survey usability and functionality. AHRQ will implement these changes and release a new version of the CG-CAHPS Survey, Version 3.0. in 2015.

DATES: AHRQ encourages submission of comments via email because postal mail addressed to AHRQ is subject to delay due to security screening. Please submit email comments to: CAHPS1@westat.com and write “CAHPS Proposed Changes” on the subject line.

If filing comments on paper, write “CAHPS Proposed Changes” on the comments and on the envelope, and mail them to: Christine Crofton, Ph.D., AHRQ CAHPS Program Director, Center for Quality Improvement and Patient Safety, Agency for Healthcare Research and Quality, 540 Gaither Road, Rockville, MD 20850.

Comments on this notice must be received no later than 5 p.m. EST on February 20, 2015. AHRQ will remove all commenter identifying information from the comments and will not provide individual responses. AHRQ will provide a summary of the comments and actions taken as a result of those comments. The summary document will be posted on the AHRQ CAHPS Web site https://cahps.ahrq.gov/index.html no later than 45 days after the closing of the comment period.

FOR FURTHER INFORMATION CONTACT: Christine Crofton, Ph.D., AHRQ CAHPS Program Director, Center for Quality Improvement and Patient Safety, Agency for Healthcare Research and Quality, 540 Gaither Road, Rockville, MD 20850, Email: Christine.Crofton@AHRQ.hhs.gov, Phone: (301) 427-1323.

ADDRESSES: Information about the CAHPS Program—including background information, surveys, and tools—can be found on the AHRQ CAHPS Web site at https://cahps.ahrq.gov/index.html.

SUPPLEMENTARY INFORMATION:

Background

Through its CAHPS program, AHRQ has been advancing the research and practice of patient-centered care (CAHPS® is a registered trademark of the Agency for Healthcare Research and Quality). The goals of the CAHPS program are: (1) To develop standardized surveys that organizations can use to collect comparable information on patients' experiences with care, and (2) to generate tools and resources to support the dissemination and use of comparative survey results to inform the public about and improve health care quality. The CAHPS® surveys assess quality of care from the patient point of view in their use of health plans as well as various ambulatory and institutional settings, including physician practices, hospitals, and nursing homes. The surveys address a range of health care services and provide results that address the various needs of health care consumers, purchasers, health plans developers, providers, and policymakers.

The CAHPS Consortium—which includes two AHRQ grantees (RAND Corporation and Yale School of Public Health), Westat (a support contractor), and AHRQ staff—are responsible for the research and development work necessary to produce CAHPS instruments, survey protocols, analysis tools, and reporting guidance. The consortium plays a critical role in educating and supporting organizations that use CAHPS products and data.

Proposed Changes

AHRQ is proposing changes to the CG-CAHPS Core Survey, including the PCMH Item Set. These proposals are based on feedback from survey users and other stakeholders.

The following principles have guided the changes to the survey and item set: (a) Minimizing the burden of surveys on patients and providers and to ensure consistency across multiple mandates for patient experience surveying by developing a single core survey; (b) balancing suggestions to shorten the survey with requests to add content—such as a measure of care coordination—while retaining the core topic areas of access, communication, office staff interactions, and a provider rating; and (c) maximizing the reliability of the CG-CAHPS reporting measures by grounding all recommended changes in analyses of relevant data. The proposed changes aim to balance the importance of the measures to patients and stakeholders with the reliability and validity of the measures.

Listed below is an overview of the proposed changes to the CG-CAHPS Survey, including the PCMH Item Set. Further details about the specific changes by composite measure and at the item level can be found on the AHRQ CAHPS Web site at: https://cahps.ahrq.gov/surveys-guidance/cg/about/proposed-cg-update.html.

Changes to CG-CAHPS Survey

Survey reference time period: AHRQ proposes changing the reference time period of the CG-CAHPS Survey from “In the last 12 months” to “In the last six months.” Rationale: This change will make the survey consistent with the survey versions being implemented by the Centers for Medicare & Medicaid Services (CMS), including the ACO CAHPS Survey and the CAHPS Survey for the Physician Quality Reporting System (PQRS). A study that randomized patients to a 12-month or 6-month survey version yielded similar CAHPS scores at the practice site level.

Access composite measure: AHRQ proposes reducing the number of items in this composite measure from five items to three items: “Got urgent care appointment”, “Got appointment for checkup or routine care”, and “Got answer to medical question the same day.” Rationale: These items are important to patients and stakeholders, have good reliability, and include multiple aspects of access.

Communication composite measure: AHRQ proposes reducing the number of items in this composite measure from six items to four items: “Explains things in a way that is easy to understand”, “Listens carefully”, “Shows respect for what you have to say”, and “Spends enough time.” Rationale: The proposed four-item composite is consistent with the communication measure in the CAHPS Health Plan Survey.

Care Coordination composite measure: Care coordination is an important aspect of patient experience that is commonly assessed by CAHPS surveys. The goal was to develop a care coordination composite measure that could be standardized across CAHPS surveys. According to an article by Ron D. Hays et al, the CAHPS Medicare Survey includes a 10-item measure, but a shorter measure may make standardization more likely. The full article published in 2013 in Medical Care Research and Review is available at http://www.ncbi.nlm.nih.gov/pmc/articles/PMC3959996/. Given the importance of care coordination for stakeholders and patients, AHRQ proposes to add a composite measure to the CG-CAHPS core survey. Since two of the items are already part of the core survey, this new composite requires the addition of only one item to the core survey.

The new three-item care coordination composite would consist of “Follow up on test results” (from the CG-CAHPS core survey), “Knows important information about medical history” (from the CG-CAHPS core survey), and “Provider talked about all prescription medicines being taken” (from the PCMH Item Set).

With these changes, including the addition of the care coordination measure, the final core CG-CAHPS Survey will be reduced from 34 items to 31 items.

Patient-Centered Medical Home (PCMH) Item Set

The PCMH Item Set is a collection of supplemental items that ask about experiences with the domains of a medical home. The combination of the core CG-CAHPS Survey with the PCMH Item Set constitutes the CAHPS PCMH Survey. The PCMH Survey has been used by the National Committee for Quality Assurance (NCQA) as part of its PCMH Recognition Program (see below, Related Efforts). AHRQ proposes the following changes to the PCMH Item Set.

Shared decision making: AHRQ proposes moving three items to the general set of supplemental items. Rationale: The items require large sample sizes to achieve acceptable unit-level reliability.

Self-management support: AHRQ proposes retaining two items. Rationale: While reliability estimates were mixed for different data sets, stakeholders have deemed these items critical to PCMH Item Set.

Attention to mental or emotional health: AHRQ proposes retaining one item “Things that cause worry or stress” and moving the other two items—“Depression screening” and “Personal or family problems”—to the general set of supplemental items. Rationale: AHRQ agrees with NCQA's view that three items are not necessary to capture comprehensiveness. The retained item is most correlated with the overall composite.

Information on getting care on evenings, weekends, and holidays: AHRQ proposes retaining this item, which is also regarded by NCQA's stakeholders as critical for inclusion for PCMH Item Set.

Getting care on evenings, weekends, and holidays: AHRQ proposes moving this item to the general set of supplemental items. Rationale: The number of responses in most practice-based surveys is insufficient to achieve reliability.

Days wait for urgent care: AHRQ proposes moving this item to the general set of supplemental items. Rationale: AHRQ supports NCQA's proposal regarding this item.

Reminders between visits: AHRQ proposes moving this item to the general set of supplemental items. Rationale: AHRQ supports NCQA's proposal regarding this item.

Care coordination items: The PCMH Item Set includes two items related to care coordination. These items did not combine to form a composite measure. As noted above, AHRQ proposes moving the item “Provider talked about all the prescription medicines being taken” into the core survey for the new measure of care coordination. AHRQ also proposes changing the current, “Yes-No response”, scale for this item to a, “Never/Sometimes/Usually/Always” frequency response, scale. The second item, “Provider informed and up-to-date on care from specialists” would remain in the PCMH Item Set.

Related Efforts

AHRQ has been working closely with the CMS, our Federal partner in the CAHPS Consortium, throughout this process to achieve alignment with the CAHPS Survey for ACOs and the CAHPS for PQRS Survey. For specific questions about these surveys, contact the ACO CAHPS team at acocahps@hcqis.org or 1-855-472-4746 or the PQRS CAHPS team at pqrscahps@hcqis.org.

As noted, NCQA currently uses the CAHPS PCMH Survey as part of its PCMH Recognition Program. NCQA has issued a separate proposal for changes to the survey that may be used for the PCMH program in the future. For specific questions about the use of the PCMH Survey by NCQA, contact their customer support at (888) 275-7585 or customersupport@ncqa.org.

Dated: January 13, 2015.
Richard Kronick,
AHRQ Director.

[FR Doc. 2015-00767 Filed 1-20-15; 8:45 am]

BILLING CODE 4160-90-M